COMMITTEE FOR THE IMPLEMENTATION OF TEXTILE AGREEMENTS

Removing Companies From List of Companies From Which Customs Shall Deny Entry to Textiles and Textile Products

January 11, 2000.

AGENCY: Committee for the Implementation of Textile Agreements (CITA).

ACTION: Issuing a directive to the Commissioner of Customs directing Customs not to apply the directive regarding denial of entry to shipments from certain companies.

EFFECTIVE DATE: January 18, 2000.

FOR FURTHER INFORMATION CONTACT: Martin Walsh, International Trade Specialist, Office of Textiles and Apparel, U.S. Department of Commerce, (202) 482-3400.

SUPPLEMENTARY INFORMATION:

Authority: Section 204 of the Agricultural Act of 1956, as amended (7 U.S.C. 1854); Executive Order 12475 of May 9, 1984, as amended.

In a notice and letter to the Commissioner of Customs, dated July 27, 1999, and published in the Federal Register on July 30, 1999 (64 FR 41395), the Chairman of CITA directed the U.S. Customs Service to deny entry to textiles and textile products allegedly manufactured by certain listed companies; Customs had informed CITA that these companies were found to have been illegally transshipping, closed, or unable to produce records to verify production.

Based on information received since that time, CITA has determined that Artistica, Fabrica de Artigos de Vestuario; and Leon Garment Factory Ltd., aka Westburg Lda., two of the listed companies, should not be subject to that directive. Effective on January 18, 2000, Customs should not apply the directive to shipments of textiles and textile products allegedly manufactured by these companies. CITA expects that Customs will conduct on-site verifications of these companies' textile and textile product production.

Troy H. Cribb,
Chairman, Committee for the Implementation of Textile Agreements.

Committee for the Implementation of Textile Agreements.

January 11, 2000.

Commissioner of Customs

Department of Treasury, Washington, DC 20229

Dear Commissioner: In the letter to the Commissioner of Customs, dated July 27, 1999 (64 FR 41395), the Chairman of CITA directed the U.S. Customs Service to deny entry to textiles and textile products allegedly manufactured by certain listed companies; Customs had informed CITA that these companies were found to have been illegally transshipping, closed, or unable to produce records to verify production.

Based on information received since that time, CITA has determined that Artistica, Fabrica de Artigos de Vestuario; and Leon Garment Factory Ltd., aka Westburg Lda., two of the listed companies, should not be subject to that directive. Effective on January 18, 2000, Customs is directed to not apply the directive to shipments of textiles and textile products allegedly manufactured by these companies. CITA expects that Customs will conduct on-site verifications of these companies' textile and textile product production.

CITA has determined that these actions fall within the foreign affairs exception of the rulemaking provisions of 5 U.S.C. 553(a)(1).

Sincerely,

Troy H. Cribb,
Chairman, Committee for the Implementation of Textile Agreements

[FR Doc. 00-1046 Filed 1-14-00; 8:45 am]

BILLING CODE 3510-DR-F